SECURITIES AND EXCHANGE COMMISSION

[Release No. 34-47021; File Nos. SR-NASD-2002-162; SR-NYSE-2002-36]

Self-Regulatory Organizations; Notice of Extension of Comment Period for the Proposed Rule Changes by the National Association of Securities Dealers, Inc. and New York Stock Exchange, Inc. Relating to Supervisory Control Amendments

December 18, 2002.

On August 16, 2002, the New York Stock Exchange (“NYSE” or “Exchange”), and on November 4, 2002, the National Association of Securities Dealers, Inc. (“NASD”), filed with the Securities and Exchange Commission (“SEC” or “Commission”) proposed rule changes pursuant to Section 19(b)(1) of the Securities Exchange Act of 1934 (“Act”) ¹ and Rule 19b-4 thereunder,² regarding the supervisory and supervisory control procedures of member firms. A complete description of the proposed rule changes is found in the notices of filing, which were published in the Federal Register on November 27, 2002.³ The comment periods expire on December 18, 2002.

¹ 15 U.S.C. 78s(b)(1).

² 17 CFR 240.19b-4.

³ See Securities Exchange Act Release Nos. 46858 (November 20, 2002), 67 FR 70994 (SR-NYSE-2002-36) and 46859 (Novmeber 20, 2002), 67 FR 70990 (SR-NASD-OP2002-162); see also Securities Exchange Act Release No. 46858A (November 27, 2002, 67 FR 72261 (SR-NYSE-2002-36 Correction).

To give the public additional time to comment on the proposed rule changes, the Commission has decided to extend the comment periods pursuant to Section 19(b)(2) of the Act.⁴ Accordingly the comment periods shall be extended until January 17, 2003.

⁴ 15 U.S.C. 78s(b)(2).

Interested persons are invited to submit written data, views, and arguments concerning the foregoing, including whether the proposed rule is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person other than those that may be withheld from the public in accordance with the provisions of 5 U.S.C. 552, will be available for inspection and copying in the Commission's Public Reference Room. Copies of such filing will also be available for inspection and copying at the principal office of the NASD. All submissions should refer to File No. SR-NYSE-2002-36 or SR-NASD-2002-162 and should be submitted by January 17, 2003

For the Commission, by the Division of Market Regulation, pursuant to delegated authority.⁵
⁵ 17 CFR 200.30-3(a)(12).
Margaret H. McFarland,
Deputy Secretary.

[FR Doc. 02-32473 Filed 12-24-02; 8:45 am]

BILLING CODE 8010-01-P